DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Sheng Wang, PhD, Boston University School of Medicine Cancer Research Center: Based on the Respondent's acceptance of ORI's research misconduct findings, ORI found that Dr. Sheng Wang, who has been an Assistant Professor, Department of Medicine, Boston University School of Medicine Cancer Research Center (BUSM), engaged in research misconduct in research supported by National Cancer Institute (NCI), National Institutes of Health (NIH), grants R01 CA102940 and R01 CA101992.

ORI found that the Respondent engaged in research misconduct by fabricating data that were included in two (2) published papers:

1. Zhang, B., Faller, D.V., Wang, S. “HIC1 regulates tumor cell responses to endocrine therapies.” Mol. Endocrinol. 23(12):2075-85, 2009; and

2. Zhang, B., Chambers, K.J., Leprince, D., Faller, D.V., Wang, S. “Requirement for chromatin-remodeling complex in novel tumor suppressor HIC1-mediated transcriptional repression and growth control.” Oncogene 28(5):651-61, 2009.

Specifically, ORI found that Respondent:

• Fabricated RT-PCR and ChIP experiments represented in Figures 1b, 2b, 3a,b, 4b,c, 6a,b, 7c in Mol. Endocrinol. 23(12):2075-85, 2009; RT-PCR and/or ChIP experiments were included in six (6) of seven (7) figures in this publication; and

• Fabricated RT-PCR and ChIP experiments represented in Figures 2a,b, 3a,b, 4a,c, 5a,b, 6b,c, 8a,b in Oncogene 28(5):651-61, 2009; RT-PCR and/or ChIP experiments were included in six (6) of eight (8) figures in this publication.

Respondent has entered into a Voluntary Exclusion Agreement (Agreement). Respondent and the U.S. Public Health Service (PHS) want to conclude this matter without further expenditure of time or other resources. Respondent accepts ORI's findings of research misconduct as set forth above but neither admits nor denies committing research misconduct. The Agreement does not constitute an admission of liability on Respondent's part. Respondent agrees not to appeal the jurisdiction of ORI or request a U.S. Department of Health and Human Services (HHS) administrative hearing to review the findings as set forth in the Agreement.

As a condition of the Agreement, Respondent agrees that the Mol. Endocrinol. 23(12):2075-85, 2009, and Oncogene 28(5):651-61, 2009, publications be retracted.

In entering into the Agreement, Dr. Wang has voluntarily agreed for a period of two (2) years, beginning on July 18, 2011:

(1) To exclude himself from any contracting or subcontracting with any agency of the United States Government and from eligibility or involvement in nonprocurement programs of the United States Government referred to as “covered transactions” pursuant to HHS' Implementation (2 CFR part 376 et seq) of OMB Guidelines to Agencies on Governmentwide Debarment and Suspension, 2 CFR part 180 (collectively the “Debarment Regulations”); and

(2) To exclude himself from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2011-19930 Filed 8-4-11; 8:45 am]

BILLING CODE 4150-31-P